COMMODITY FUTURES TRADING COMMISSION

Technology Advisory Committee; Security Procedures for November 27, 2001; Meeting

On October 17, 2001, the Commodity Futures Trading Commission published notice that its Technology Advisory Committee will conduct a public meeting on Tuesday, November 27, 2001. The meeting will take place at the Federal Reserve Bank of Chicago, 230 South LaSalle Street, Chicago, IL 60604-1413, from 1 to 5 p.m. For general information concerning this meeting, see 66 FR 52747.

Due to the physical security procedures at the Federal Reserve Bank of Chicago, all attendees must register with the Bank in advance, (but not later than November 25, 2001) by providing their names and company affiliations. To register, please contact Judith Kozla by telephone at (800) 333-0894, extension or by e-mail at judith.kozla@chi.frb.org. The secondary contact is Pamela Suarez, who can be reached at (800) 333-0894, extension 8103, or pamela.suarez@chi.frb.org. Persons who do not register by November 25, 2001 will not be able to attend the meeting.

On the day of the meeting, attendees must bring photo identification to receive a visitors pass. Be advised that the Federal Reserve Bank of Chicago utilizes metal detectors as well as x-ray machines for all bags and briefcases.

For further information concerning this meeting, please contact Natalie A. Markman or William Penner at (202) 418-5060.

Issued by the Commission in Washington, DC on October 26, 2001.
Jean A. Webb,
Secretary of the Commission.

[FR Doc. 01-27374 Filed 10-30-01; 8:45 am]

BILLING CODE 6351-01-M